LIBRARY OF CONGRESS

Copyright Office

37 CFR Part 201

[Docket No. RM 2002-1A]

Notice and Recordkeeping for Use of Sound Recordings under Statutory License

AGENCY: Copyright Office, Library of Congress.

ACTION: Extension of comment period.

SUMMARY: The Copyright Office of the Library of Congress is extending the time period for filing comments on its Notice of Proposed Rulemaking concerning requirements by which copyright owners shall receive reasonable notice of the use of their works from digital transmission services, and how records of such use shall be kept and made available to copyright owners.

DATES: Comments are due no later than April 5, 2002. Reply comments are due April 26, 2002.

ADDRESSES: If sent by mail, an original and ten copies of comments and reply comments should be addressed to: Copyright Arbitration Royalty Panel (CARP), P.O. Box 70977, Southwest Station, Washington, DC 20024. If hand delivered, comments and reply comments should be brought to: Office of the General Counsel, James Madison Building, Room LM-403, First and Independence Ave., SE., Washington, DC 20559-6000.

FOR FURTHER INFORMATION CONTACT: David O. Carson, General Counsel, or Tanya M. Sandros, Senior Attorney, Copyright Arbitration Royalty Panel (CARP), P.O. Box 70977, Southwest Station, Washington, DC 20024. Telephone: (202) 707-8380. Telefax: (202) 252-3423.

SUPPLEMENTARY INFORMATION: A sound recording may be publicly performed by means of a digital audio transmission under a statutory license provided that the user adheres to the terms of the license and the regulations established by the Copyright Office governing notice and recordkeeping. See 17 U.S.C. 114. On February 7, 2002, the Copyright Office published a Notice of Proposed Rulemaking which announced the proposed rules for giving copyright owners reasonable notice that their sound recordings are being used under the statutory digital performance right license, and set forth rules for maintaining records of use and making them available to copyright owners. 67 FR 5761 (February 7, 2002). The notice also included proposed rules concerning notice and recordkeeping requirements associated with the use of a second statutory license which provides for the making of the ephemeral phonorecords needed to effectuate the transmission of the sound recordings. 17 U.S.C. 112.

On March 1, 2002, counsel for Sirius Satellite Radio Inc., Clear Channel Communications, Salem Communications Corp., and the National Religious Broadcasters Music License Committee asked the Copyright Office to extend the filing deadline for this proceeding. Subsequently, the Office was notified that the recording industry and the webcasters supported the broadcasters' request for an extension of time. These parties seek an extension for filing the requested comments so that they can engage in detailed discussions concerning the issues raised in the Notice of Proposed Rulemaking.

In recognition of the complexity of the proposed rulemaking and the possibility for productive discussions among interested parties, the Office is extending the period for filing comments and replies in this proceeding. Comments shall be due on April 5, 2002, and reply comments shall be due on Friday, April 26, 2002.

Dated: March 6, 2002.
Marilyn J. Kretsinger,
Assistant General Counsel.

[FR Doc. 02-5738 Filed 3-7-02; 8:45 am]

BILLING CODE 1410-31-P